FEDERAL RESERVE SYSTEM

Consumer Advisory Council

ACTION: Notice of Meeting of Consumer Advisory Council

The Consumer Advisory Council will meet on Thursday, June 22, 2006. The meeting, which will be open to public observation, will take place at the Federal Reserve Board's offices in Washington, DC, in Dining Room E on the Terrace level of the Martin Building. Anyone planning to attend the meeting should, for security purposes, register no later than Tuesday, June 20, by completing the form found online at: https://www.federalreserve.gov/secure/forms/cacregistration.cfm

Additionally, attendees must present photo identification to enter the building.

The meeting will begin at 9 a.m. EDT and is expected to conclude at 1 p.m. The Martin Building is located on C Street, NW., between 20th and 21st Streets.

The Council's function is to advise the Board on the exercise of the Board's responsibilities under various consumer financial services laws and on other matters on which the Board seeks its advice. Time permitting, the Council will discuss the following topics:

Home Equity Lending

• Assessing the impact of the rules implementing the Home Ownership and Equity Protection Act (HOEPA)

• Issues related to the subprime mortgage market

• Nontraditional mortgage products

Financial Literacy

• Issues related to the goals for and the effectiveness of financial literacy programs.

Reports by committees and other matters initiated by Council members also may be discussed.

Persons wishing to submit views to the Council on any of the above topics may do so by sending written statements to Kyan Bishop, Secretary of the Consumer Advisory Council, Division of Consumer and Community Affairs, Board of Governors of the Federal Reserve System, Washington, DC 20551. Information about this meeting may be obtained from Ms. Bishop, 202-452-6470.

Board of Governors of the Federal Reserve System, June 6, 2006.
Jennifer J. Johnson
Secretary of the Board.

[FR Doc. E6-8977 Filed 6-8-06; 8:45 am]

BILLING CODE 6210-01-S